DEPARTMENT OF ENERGY

Federal Energy Regulatory Commission

[Docket No. PR02-8-000]

Hill-Lake Gas Storage, L.P.; Notice of Petition for Rate Approval

December 14, 2001.

Take notice that on November 30, 2001, Hill-Lake Gas Storage, L.P. (Hill-Lake) tendered for filing pursuant to Section 284.123(b)(2) of the Commission's regulations, a petition for rate approval requesting that the Commission approve as fair and equitable, market-based rates for firm and interruptible storage services performed under Section 311(a)(2) of the Natural Gas Policy Act of 1978 (NGPA). The rates for the individual storage services will be negotiated between Hill-Lake and various shippers. Hill-Lake does not propose to have established any maximum or minimum rate for any generic service.

Hill-Lake states that it operates as an intrastate natural gas pipeline company within the meaning of Section 2(16) of the NGPA in the State of Texas. Hill-Lake owns storage facilities in the State of Texas, which are the subject of this petition and which are located in Eastland County, Texas (Storage Facility). Hill-Lake indicates that it will provide the proposed storage services using the excess natural gas storage capacity of its Storage Facility.

Pursuant to section 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before December 31, 2001. This petition for rate approval is on file with the Commission and is available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31312 Filed 12-19-01; 8:45 am]

BILLING CODE 6717-01-P